DEPARTMENT OF THE INTERIOR

National Park Service

National Register of Historic Places; Notification of Pending Nominations and Related Actions

Nominations for the following properties being considered for listing or related actions in the National Register were received by the National Park Service before December 23, 2006. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax: 202-371-6447. Written or faxed comments should be submitted by January 24, 2007.

John W. Roberts,
Acting Chief, National Register/National Historic Landmarks Program.

ARIZONA

Maricopa County

Pioneer Military and Memorial Park, 13th to 15th Aves., Jefferson to Harrison Aves., Phoenix, 06001317

ARKANSAS

Baxter County

Horace Mann School Historic District, (New Deal Recovery Efforts in Arkansas MPS), City Hall Circle, Norfolk, 06001311

Greene County

Linwood Mausoleum, Jct. of W. Kingshighway and Linwood Dr., Paragould, 06001314

Independence County

School Additon Historic District, 560-770 Water, 210-293 N. 7th, 709-897 Rock, 215-280 N. 8th, Batesville, 06001315

Miller County

Mullins Court, 605 Hickory St., Texarkana, 06001313

Mississippi County

Widner-Magers Farm Historic District, (Cotton and Rice Farm History and Architecture in the Arkansas Delta MPS), 3398 AR N St. 181, Dell, 06001325

Van Buren County

Joclin-Bradley-Bowling House, 160 AR 95 W, Clinton, 06001316

White County

Fredonia Cemetery Historic Section, (White County MPS), Roughly 0.5 mi. down Fredonia Rd., past the jct of Fredonia and Honeysuckle Rds., Stevens Creek, 06001312

FLORIDA

Columbia County

Sikes House, 288 Ellis St., Fort White, 06001318

Sarasota County

Nolen, John, Plan of the City of Venice, Laguna Dr., Home Park Rd., The Corso on South, The Esplanade on West, Venice, 06001319

GUAM

Guam County

Guam Congress Building, Chalan Santo Papa, Hagatna, 06001320

IOWA

Benton County

Youngville Cafe, 2409 73rd St., Watkins, 06001321

MICHIGAN

Delta County

Nahma and Northern Railway Locomotive #5, Main St. at River St., Nahma Township, 06001327

Emmet County

Saint Ignatius Church and Cemetery, 101 N. Lamkin Rd., Readmond Township, 06001328

Kent County

Whitney Tavern Stand, 5283 Whitneyville Ave., Cascade Township, 06001326

Lenawee County

Horton, George B. and Amanda Bradish, Farmstead, 4650 W. Horton Rd., Fairfield Township, 06001333

Macomb County

Packard Proving Grounds Gateway Complex, 49965 Van Dyke Ave., Shelby Township, 06001322

Oakland County

Detroit Finnish Co-operative Summer Camp, 2524 Loon Lake Rd., Wixom, 06001331

Pleasant Ridge East Historic District,

Bounded generally by Woodward, 10 Mile Rd., Conrail and east city limits and south city limits, Pleasant Ridge, 06001329

Wayne County

Eastern Market Historic District (Boundary Increase), Roughly bounded by Gratio Ave., Ropelle St., Wilkins St. Grand Trunk RR, and Division St., Detroit, 06001330

West Side Dom Polski, 3426 Junction Ave., Detroit, 06001332

MISSISSIPPI

Hinds County

Southern Christian Institute, 18449 Old U.S. 80 W, Edwards, 06001323

Lincoln County

Handy, Capt. Jack C., House, 205 Natchez Ave., Brookhaven, 06001324

MISSOURI

Boone County

Columbia Cemetery, 30 East Broadway, Columbia, 06001335

Jackson County

A.B.C. Storage and Van Company Building, 1015 E. 8th St., Kansas City, 06001334

PENNSYLVANIA

Chester County

Oxford Historic District, Roughly bounded by Church Rd. Chase St., Hodgson St., Oxford-Borough, 06001336

TENNESSEE

McMinn County

Clear Springs Cumberland Presbyterian Church, Clear Springs Rd., Calhoun, 06001337

[FR Doc. E7-121 Filed 1-8-07; 8:45 am]

BILLING CODE 4310-70-P